FEDERAL COMMUNICATIONS COMMISSION

Information Collection Being Reviewed by the Federal Communications Commission Under Delegated Authority

AGENCY: Federal Communications Commission.

ACTION: Notice; request for comments.

SUMMARY: As part of its continuing effort to reduce paperwork burden and as required by the Paperwork Reduction Act (PRA) of 1995 (44 U.S.C. 3501-3520), the Federal Communications Commission invites the general public and other Federal agencies to take this opportunity to comment on the following information collection(s). Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information burden for small business concerns with fewer than 25 employees.

The FCC may not conduct or sponsor a collection of information unless it displays a currently valid OMB control number. No person shall be subject to any penalty for failing to comply with a collection of information subject to the Paperwork Reduction Act (PRA) that does not display a valid OMB control number.

DATES: Written Paperwork Reduction Act (PRA) comments should be submitted on or before April 1, 2013. If you anticipate that you will be submitting PRA comments, but find it difficult to do so within the period of time allowed by this notice, you should advise the FCC contact listed below as soon as possible.

ADDRESSES: Submit your PRA comments to Nicholas A. Fraser, Office of Management and Budget, via fax at 202-395-5167 or via Internet at Nicholas_A._Fraser@omb.eop.gov and to Judith B. Herman, Federal Communications Commission, via the Internet at Judith-b.herman@fcc.gov. To submit your PRA comments by email send them to: PRA@fcc.gov.

FOR FURTHER INFORMATION CONTACT: Judith B. Herman, Office of Managing Director, (202) 418-0214.

SUPPLEMENTARY INFORMATION:

OMB Control Number: 3060-0295.

Title: Section 90.607(a)(1) and (b)(1), Supplemental Information to be Furnished by Applicants For Facilities Under Subpart S.

Form Number: N/A.

Type of Review: Extension of a currently approved collection.

Respondents: Business or other for-profit entities, not-for-profit institutions and state, local or tribal government.

Number of Respondents: 3,788 respondents; 3,788 responses.

Estimated Time per Response: .25 hours.

Frequency of Response: On occasion reporting requirement.

Obligation To Respond: Required to obtain or retain benefits. Statutory authority for this information collection is contained in 47 U.S.C. section 308(b).

Total Annual Burden: 947 hours.

Total Annual Cost: N/A.

Privacy Impact Assessment: N/A.

Nature and Extent of Confidentiality: There is no need for confidentiality.

Needs and Uses: The Commission is submitting this expiring information collection to the Office of Management and Budget (OMB) for approval of an extension request (no change in the public reporting requirement).

This rule section requires the affected applicants to submit a list of any radio facilities they hold within 40 miles of the base station transmitter site being applied for.

This information is used to determine if an applicant's proposed system is necessary in light of communications facilities it already owns. Such a determination helps the Commission to equitably distribute limited spectrum and prevents spectrum warehousing.

OMB Control Number: 3060-0308.

Title: Section 90.505, Developmental Operation, Showing Required.

Form Number: N/A.

Type of Review: Extension of a currently approved collection.

Respondents: Business or other for-profit entities.

Number of Respondents: 10 respondents; 10 responses.

Estimated Time per Response: 2 hours.

Frequency of Response: Recordkeeping requirement.

Obligation to Respond: Required to obtain or retain benefits. There is no statutory authority for this information collection.

Total Annual Burden: 20 hours.

Total Annual Cost: N/A.

Privacy Impact Assessment: N/A.

Nature and Extent of Confidentiality: There is no need for confidentiality.

Needs and Uses: The Commission is submitting this expiring information collection to the Office of Management and Budget (OMB) for approval of an extension request (no change in the recordkeeping requirement). There is no change in the Commission's previous burden estimates.

Section 90.505 requires applicants proposing developmental operations to submit supplemental information showing why the authorization is necessary and what its use will be.

This requirement will be used by Commission staff in evaluating the applicant's need for such frequencies and the interference potential to other stations operating on the proposed frequencies.

OMB Control Number: 3060-0355.

Title: Rate-of-Return Monitoring Reports.

Form Numbers: FCC Forms 492 and 492-A.

Type of Review: Extension of a currently approved collection.

Respondents: Business or other for-profit entities.

Number of Respondents: 80 respondents; 80 responses.

Estimated Time per Response: 8 hours.

Frequency of Response: Annual reporting requirement and recordkeeping requirement.

Obligation to Respond: Mandatory. Statutory authority for this information collection is contained in 47 U.S.C. sections 160, 161, 209(b) and 220 as amended by the Communications Act of 1934, as amended.

Total Annual Burden: 640 hours.

Total Annual Cost: N/A.

Privacy Impact Assessment: N/A.

Nature and Extent of Confidentiality: In most cases, the rate-of-return reports do not require submission of any confidential or commercially-sensitive data. The areas in which detailed information is required are fully subject to regulation. If a respondent finds it necessary to submit confidential or commercially-sensitive data, they may do so under 47 CFR 0.459 of the Commission's rules.

Needs and Uses: The Commission is submitting this expiring information collection to the Office of Management and Budget (OMB) for approval of an extension request (no change in the reporting and/or recordkeeping requirements).

The filing of FCC Forms 492 and 492-A is required by 47 CFR 65.600 of the Commission's rules. FCC Form 492 is filed by each local exchange carrier (LEC) or groups of carriers who file individual access tariffs or who are not subject to sections 61.41 through 61.49 of the Commission's rules. Each LEC, or group of affiliated carriers, subject to the previously stated sections, file FCC Form 492-A. These data provide the necessary detail to enable the Commission to fulfill its regulatory responsibilities.

The Commission has granted AT&T, Verizon, legacy Qwest, and other similarly-situated carriers forbearance from FCC Form 492-A. See Petition of AT&T Inc. for Forbearance under 47 U.S.C. 160 from Enforcement of Certain of the Commission's Cost Assignment Rules, WC Docket Nos. 07-21, 05-342, Memorandum Opinion and Order, 23 FCC Rcd 7302 (2008) (AT&T Cost Assignment Forbearance Order), pet. for recon pending, pet.for review pending, NASUCA v. FCC, Case No. 08-1226 (D.C. Cir. filed June 23, 2008); Service Quality, Customer Satisfaction, Infrastructure and Operating Data Gathering, WC Docket Nos. 08-190, 07-139, 07-204, 07-273, 07-21, Memorandum Opinion and Order and Notice of Proposed Rulemaking, 23 FCC Rcd 13747 (2008) (Verizon/Qwest Cost Assignment Forbearance Order), pet. for recon. pending, pet. for review pending, NASCUA v. FCC, Case No. 08-1353 (D.C. Cir. filed Nov. 4, 2008).

Despite this forbearance, the Commission seeks OMB approval for the extension of this information collection for three years because petitions for reconsideration and review of those forbearance decisions are currently pending before the Commission and the U.S. Court of Appeals for the D.C. Circuit, respectively.

OMB Control Number: 3060-0625.

Title: Section 24.103, Construction Requirements.

Form Number: N/A.

Type of Review: Extension of a currently approved collection.

Respondents: Individuals or households, business or other for-profit entities, not-for-profit entities and state, local or tribal government.

Number of Respondents: 5 respondents; 90 responses.

Estimated Time per Response: .5 hours to 3 hours.

Frequency of Response: On occasion, 5 and 10 year reporting requirements and recordkeeping requirement.

Obligation to Respond: Required to obtain or retain benefits. Statutory authority for this information collection is contained in 47 U.S.C. section 303 as amended by the Communications Act of 1934, as amended.

Total Annual Burden: 102 hours.

Total Annual Cost: $41,000.

Privacy Impact Assessment: Yes. The FCC maintains a system of record notice (SORN), FCC/WTB-1, “Wireless Services Licensing Records,” that covers the collection, purpose(s), storage, safeguards and disposal of the personally identifiable information (PII) that individual PCS licensees maintain under 47 CFR 24.103 of the Commission's rules.

Nature and Extent of Confidentiality: There is a need for confidentiality. See Privacy Impact Assessment above and in the supporting statement (item 10) when this collection is submitted to OMB for review and approval.

Needs and Uses: The Commission is submitting this expiring information collection to the Office of Management and Budget (OMB) for approval of an extension request (no change in the reporting and/or recordkeeping requirement).

The Commission's narrowband Personal Communications Service (PCS) rules will improve the efficiency of spectrum use, reduce the regulatory burden on spectrum users, encourage competition, and promote service to the largest feasible number of users.

Specifically, this collection requires that nationwide narrowband PCS licensees must, under this rule section, to notify the FCC by filing FCC Form 601, no later than 15 days after the end of the 5 year period following the initial grant of their license, indicating that they plan to satisfy the alternative requirements to provide “substantial service”. Also under this rule section, upon meeting the 5 and 10 year benchmarks in (a), (b) and (c) of this subsection, licensees shall notify the Commission by filing FCC Form 601 and including a map and other supporting documentation that demonstrate the required geographic area coverage, population coverage, or substantial service to the licensed area within 15 days of the expiration of the relevant period has been met.

OMB Control Number: 3060-1062.

Title: Schools and Libraries Universal Support Mechanism—Notification of Equipment Transfers.

Form Number: N/A.

Type of Review: Extension of a currently approved collection.

Respondents: Business or other for-profit entities, not-for-profit institutions and state, local or tribal government.

Number of Respondents: 100 respondents; 100 responses.

Estimated Time per Response: 1 hour.

Frequency of Response: On occasion reporting requirement, recordkeeping requirement and third party disclosure requirement.

Obligation to Respond: Required to obtain or retain benefits. Statutory authority for this information collection is contained in 47 U.S.C. sections 151, 154(i), 154(j), 201-205, 214, 254 and 403.

Total Annual Burden: 100 hours.

Total Annual Cost: N/A.

Privacy Impact Assessment: N/A.

Nature and Extent of Confidentiality: There is no need for confidentiality.

Needs and Uses: The Commission is submitting this expiring information collection to the Office of Management and Budget (OMB) for approval of an extension request (no change in the public reporting, recordkeeping and/or third party disclosure requirements).

The Commission is reporting an 80 hour increase in the total annual burden. This change is due to an increase in the number of respondents filing equipment transfer notifications due to an increase in school closings and consolidations.

In the event that a recipient of equipment purchased with E-rate funds is permanently or temporarily closed and the equipment is transferred, the transferring entity must notify USAC of the transfer, and both the transferring and receiving entities must maintain detailed records documenting the transfer and the reasons for the transfer for a period of five years. The purpose of this notification is to prevent waste, fraud and abuse.

Federal Communications Commission.
Marlene H. Dortch,
Secretary.

[FR Doc. 2013-01889 Filed 1-29-13; 8:45 am]

BILLING CODE 6712-01-P